ENVIRONMENTAL PROTECTION AGENCY

[EPA-HQ-OPP-2004-0404; FRL-8096-8]

Pesticides; Availability of Schedule for Registration Review

AGENCY: Environmental Protection Agency (EPA).

ACTION: Notice.

SUMMARY: EPA is announcing the availability of a schedule for the registration review of pesticides mandated in section 3(g) of the Federal Insecticide, Fungicide, and Rodenticide Act (FIFRA). EPA is making the schedule available pursuant to the Registration Review procedural regulations, to inform the public and help interested stakeholders prepare for the initiation of the registration reviews scheduled for the first four years of the program. To develop the schedule, EPA used procedures set forth in the August 9, 2006 final rule. The schedule shows how the Agency plans to sequence pesticide reviews to meet the goal of reviewing each pesticide's registration every 15 years. Although there is not a comment period for this schedule, the Agency may consider issues raised by the public or the registrant when reviewing the posted schedule, to schedule a pesticide registration review, or to modify the schedule of a pesticide registration review as appropriate. This schedule will take effect on October 10, 2006, the effective date of the registration review regulation.

FOR FURTHER INFORMATION CONTACT: Kennan Garvey, Special Review and Reregistration Division (7508P), Office of Pesticide Programs, Environmental Protection Agency, 1200 Pennsylvania Ave., NW., Washington, DC 20460-0001; telephone number: (703) 305-7106; fax number: (703) 308-8005; e-mail address: garvey.kennan@epa.gov.

SUPPLEMENTARY INFORMATION:

I. General Information

A. Does this Action Apply to Me?

You may be potentially affected by this action if you hold pesticide registrations. Pesticide users or other persons interested in the regulation of the sale, distribution, or use of pesticides may also be interested in this action.

Potentially affected entities may include, but are not limited to:

Producers of pesticide products (NAICS code 32532).

Producers of antifoulant paints (NAICS code 32551).

Producers of antimicrobial pesticides (NAICS code 32561).

Producers of nitrogen stabilizer products (NAICS code 32531).

Producers of wood preservatives (NAICS code 32519).

This listing is not intended to be exhaustive, but rather provides a guide for readers regarding entities likely to be affected by this action. Other types of entities not listed in this unit could also be affected. The North American Industrial Classification System (NAICS) codes have been provided to assist you and others in determining whether this action might apply to certain entities. To determine whether you or your business may be affected by this action, you should carefully examine the applicability provisions in § 155.40 of the regulatory text of the Federal Register of August 9, 2006 (71 FR 45720-45734)(FRL- 8080-4). If you have any questions regarding the applicability of this action to a particular entity, consult the person listed under FOR FURTHER INFORMATION CONTACT.

B. How Can I Get Copies of this Document and Other Related Information?

1. Docket. EPA has established a docket for this action under docket identification (ID) number EPA-HQ-OPP-2004-0404. Publicly available docket materials are available either in the electronic docket at http://www.regulations.gov, or, if only available in hard copy, at the Office of Pesticide Programs (OPP) Regulatory Public Docket in Rm. S-4400, One Potomac Yard (South Building), 2777 S. Crystal Drive Arlington, VA. The hours of operation of this Docket Facility are from 8:30 a.m. to 4 p.m., Monday through Friday, excluding legal holidays. The Docket telephone number is (703) 305-5805.

2. Electronic access. You may access this Federal Register document electronically through the EPA Internet under the “Federal Register” listings at http://www.epa.gov/fedrgstr/.

II. Background

A. What Action is the Agency Taking?

EPA has issued a schedule for the registration review program, the periodic review of all registered pesticides mandated by section 3(g) of FIFRA. The schedule will take effect upon the registration review regulation effective date of October 10, 2006.

This schedule is a timetable for opening registration review dockets for the first four years of the program. It shows how EPA plans to sequence the initiation of pesticide reviews to meet the statutory goal of reviewing all registered pesticides every 15 years to determine whether they still meet the statutory standard for registration. As noted in the explanation of the schedule, EPA expects a total of about 676 registration review cases comprised of about 1,075 pesticide active ingredients to undergo registration review. To review all of these pesticides every 15 years, the Agency plans to make decisions on 45 or more registration review cases, or about 70 pesticide active ingredients, each year.

The schedule shows which registration review cases are expected to begin the review process during the first four years of the program, beginning in fiscal year 2007. Each pesticide's place on the schedule is generally determined by its baseline date, that is, the date of its last substantive review. The oldest cases go first. The baseline date for a pesticide subject to reregistration is the date of the Reregistration Eligibility Decision (RED) or Interim RED, while for pesticides not subject to reregistration, it is the date the first product containing the active ingredient was registered. Although the draft schedule generally is constructed chronologically using baseline dates, some registration review cases in years two through four are grouped in the schedule to achieve greater program efficiencies. For example, pesticides that are chemically or use related, such as the organophosphate and carbamate chemical classes, the coppers group and the pyrethroids, pyrethrins and synergists group, would be reviewed during the same time frame.

Background information on the program is provided at:

http://www.epa.gov/oppsrrd1/registration_review/

An explanation of the schedule is at:

http://www.epa.gov/oppsrrd1/registration_review/explanation.htm

The schedule is at:

http://www.epa.gov/oppsrrd1/registration_review/schedule.htm.

B. What is the Agency's Authority for Taking this Action?

EPA is announcing this schedule as provided in § § 155.42(d) and 155.44 of the Procedural Regulations for Registration Review: Final Rule http://www.epa.gov/fedrgstr/EPA-PEST/2006/August/Day-09/p12904.htm). In general, the Agency may consider issues raised by the public or the registrant when reviewing a posted schedule, to schedule a pesticide registration review, or to modify the schedule of a pesticide registration review as appropriate. This schedule will be updated at least annually.

List of Subjects

Environmental protection, Agricultural commodities, Pesticides and pests.

Dated: September 26, 2006.
Debra Edwards,
Director, Special Review and Reregistration Division, Office of Pesticide Programs.

[FR Doc. E6-16483 Filed 10-10-06; 8:45 am]

BILLING CODE 6560-50-S